DEPARTMENT OF COMMERCE

Foreign-Trade Zones Board

[Order No. 1085]

Expansion of Foreign-Trade Zone 146, Lawrence County, IL

Pursuant to its authority under the Foreign-Trade Zones Act of June 18, 1934, as amended (19 U.S.C. 81a-81u), the Foreign-Trade Zones Board (the Board) adopts the following Order:

Whereas, the Bi-State Authority, grantee of Foreign-Trade Zone 146 (Lawrence County, Illinois), submitted an application to the Board for authority to expand FTZ 146 to include the Effingham Industrial Park in Effingham (Effingham County), Illinois (Site 2), adjacent to the St. Louis, Missouri, Customs port of entry (FTZ Docket 29-99; filed 6/2/99);

Whereas, notice inviting public comment was given in the Federal Register (64 FR 32023, 6/15/99) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 146 is approved, subject to the Act and the Board's regulations, including Section 400.28.

Signed at Washington, DC, this 18th day of April 2000.
Troy H. Cribb,
Acting Assistant Secretary of Commerce for Import Administration, Alternate Chairman, Foreign-Trade Zones Board.
Attest:
Dennis Puccinelli,
Acting Executive Secretary.

[FR Doc. 00-10535 Filed 4-26-00; 8:45 am]

BILLING CODE 3510-DS-P